DEPARTMENT OF JUSTICE

Office of Justice Programs

[OJP (NIJ) Docket No. 1501]

NIJ Metal Detector Standards Workshop

AGENCY: National Institute of Justice.

ACTION: Notice of meeting.

SUMMARY: The National Institute of Justice (NIJ) is hosting a Metal Detector Standards Workshop for manufacturers on Tuesday, October 6, 2009. The meeting will be held from 2:30 to 4 p.m. at the Hyatt Regency Denver Tech Center, 7800 East Tufts Avenue, Denver, Colorado 80237. NIJ is hosting this workshop specifically to introduce manufacturers to the revised NIJ Walk-through Metal Detector Standard and the revised NIJ Handheld Metal Detector Standard that are under development and to receive feedback. Participants are strongly encouraged to come prepared to ask questions and to voice suggestions and concerns.

Space is limited at this workshop, and as a result, only 50 participants will be allowed to register. We request that each manufacturer limit their representatives to no more than two per organization. Exceptions to this limit may occur, should space allow. Participants planning to attend are responsible for their own travel arrangements. Please send your registration request to standards@nlectc-rm.org and indicate in the email that the workshop you are requesting to attend is the Metal Detector Standards Workshop. You will receive a response to your request within 2 business days.

DATES: The meeting will be held from 2:30 to 4 p.m. on Tuesday, October 6, 2009.

ADDRESSES: Hyatt Regency Denver Tech Center, 7800 East Tufts Avenue, Denver, Colorado 80237.

FOR FURTHER INFORMATION CONTACT: Vanessa Castellanos, by telephone at 202-514-5272 [Note: this is not a toll-free telephone number], or by e-mail at vanessa.castellanos@ojp.usdoj.gov.

Dated: September 17, 2009.
Kristina Rose,
Acting Director, National Institute of Justice.

[FR Doc. E9-22990 Filed 9-22-09; 8:45 am]

BILLING CODE 4410-18-P